DEPARTMENT OF THE INTERIOR

Fish and Wildlife Service

[FWS-R6-R-2008-N0331; 60138-1265-6CCP-S3]

Final Comprehensive Conservation Plan for Nine Wetland Management Districts, North Dakota

AGENCY: Fish and Wildlife Service, Interior.

ACTION: Notice of Availability.

SUMMARY: The U.S. Fish and Wildlife Service (Service) announces that the Final Comprehensive Conservation Plan (CCP) for nine Wetland Management Districts (Districts) is available. This final CCP describes how the Service intends to manage the Districts for the next 15 years.

ADDRESSES: A copy of the CCP may be obtained by writing to U.S. Fish and Wildlife Service, Division of Refuge Planning, 134 Union Boulevard, Suite 300, Lakewood, Colorado 80228; or by download from http://mountain-prairie.fws.gov/planning.

FOR FURTHER INFORMATION CONTACT: John Esperance, 303-236-4369 (phone); 303-236-4792 (fax); or john_esperance@fws.gov (e-mail).

SUPPLEMENTARY INFORMATION: The nine Districts are Devils Lake, Arrowwood, Audubon, Chase Lake, Crosby, J. Clark Salyer, Kulm, Lostwood, and Valley City Wetland Management Districts.

The Districts are part of the National Wildlife Refuge System of the U.S. Fish and Wildlife Service. The Districts were started as part of the Small Wetlands Acquisition Program in the 1950s to save wetlands from various threats, particularly drainage. The passage of Public Law 85-585 in August, 1958, amended the Migratory Bird Hunting and Conservation Stamp Act of 1934, allowing for the acquisition of waterfowl production areas and easements for waterfowl production.

All nine of the Districts have a primary purpose to provide optimal habitat conditions for the needs of a suite of waterfowl and other migratory birds, and, to a lesser extent native, resident wildlife.

To achieve goals and objectives, aggressive wetland and upland habitat management must be conducted. Wetland and upland habitats need to be protected and enhanced through management. Habitat protection needs to be evaluated through a priority system so that different means of protection, either through fee title or easements, can be evaluated.

The draft CCP/EA was made available to the public for a 30-day review and comment period following the announcement in the Federal Register on August 19, 2008 (73 FR 48388). The draft CCP/EA identified and evaluated three alternatives for managing the refuges for the next 15 years.

Alternative A, the No Action alternative, promotes a continuation of all aspects of the District's current management. Staff would conduct monitoring, inventory, and research activities at their current level (i.e., limited, issue-driven research and limited avian and vegetative monitoring and inventory). Funding and staff levels would not change and programs would follow the same direction, emphasis, and intensity as they do at present. The current management of wildlife habitat and associated species on Districts Wetland Productions Areas (WPAs) are prioritized into high, medium, and low areas. Currently, only high priority Wetland Production Areas are receiving consistent management. All conservation easements are monitored by Service personnel; however, only the high priority easement violations are consistently enforced. Currently public use events and workshops with such groups as school districts, youth groups, and conservations groups are conducted on a multiyear rotation among Districts.

Alternative B is the Service's proposed action and basis for the CCP. This alternative will allow for enhanced wetland and upland management where warranted on District lands. Management objectives for various habitat types would be based on habitat preferences of groups of target species, such as waterfowl, migratory shore birds, grassland bird species and priority species. District staff will focus on high priority tracts and medium priority tracts. The District staff will implement compatible production enhancement techniques for targeted migratory bird populations. The District staff will maintain existing environmental education and public use programs, with additional waterfowl emphases. The Service proposes, at a future date, a new administration and visitor center for Audubon and Kulm WMD and additionally a new visitor contact station for Lostwood, Valley City, and Arrowwood Wetland Management District.

In Alternative C, management by the District staff would be more intensive and widespread that targets native prairie/wetland complexes. District staff would seek out where restoration projects were expanded and where returning native grasslands to quality native prairie was a priority. This alternative would have the potential to provide additional management options to address habitat requirements and needs of specific groups of water-dependent birds (e.g., waterfowl and shorebirds). The staff would develop new environmental education and public use programs. The Service proposes, at a future date, a new administration and visitor center for Audubon and Kulm WMD and additionally, a new visitor contact station for Lostwood, Valley City, and Arrowwood Wetland Management District.

The Service is furnishing this notice to advise other agencies and the public of the availability of the final CCP, to provide information on the desired conditions for the refuges, and to detail how the Service will implement management strategies. Based on the review and evaluation of the information contained in the EA, the Regional Director has determined that implementation of the final CCP does not constitute a major Federal action that would significantly affect the quality of the human environment within the meaning of Section 102(2)(c) of the National Environmental Policy Act. Therefore, an Environmental Impact Statement will not be prepared. Future site-specific proposals discussed in the final CCP will be addressed in separate planning efforts with full public involvement.

Dated: February 2, 2009.
Noreen E. Walsh,
Deputy Regional Director.

[FR Doc. E9-2542 Filed 2-5-09; 8:45 am]

BILLING CODE 4310-55-P